DEPARTMENT OF HOUSING AND URBAN DEVELOPMENT

[Docket No.FR-5191-N-03]

Notice of Submission of Proposed Information Collection to OMB; Emergency Comment Request; Demonstration Program for Elderly Housing for Intergenerational Families

AGENCY: Office of Housing Assistance and Grant Administration, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: February 13, 2008.

ADDRESSES: Interested persons are invited to submit comments regarding this proposal. Comments must be received within seven (14) days from the date of this Notice. Comments should refer to the proposal by name/or OMB approval number) and should be sent to: HUD Desk Officer, Office of Management and Regulatory Affairs, Office of Management and Budget, New Executive Office Building, Washington, DC 20503.

FOR FURTHER INFORMATION CONTACT: Lillian Deitzer, Paperwork Reduction Act Compliance Officer, AYO, Department of Housing and Urban Development, 451 Seventh Street, SW., Washington, DC 20410; e-mail Lillian.Deitzer@HUD.gov; telephone (202) 402-2374. This is not a toll-free number. Copies of available documents submitted to OMB may be obtained from Ms Deitzer.

SUPPLEMENTARY INFORMATION: This Notice informs the public that the U.S. Department of Housing and Urban Development (HUD) has submitted to OMB, for emergency processing, a new collection for selecting applicants for the Demonstration Program for Elderly Housing for Intergenerational Families grants.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Demonstration Program for Elderly Housing for Intergenerational Families.

Description of Information Collection: This is a new collection for selecting applicants for the 202 Program for Supportive Housing for the Elderly grants which will be part of the 2008 Notice of Funding Availability (NOFA). These grants are to provide assistance for a demonstration program to expand the supply of intergenerational dwelling units for very low income grandparent(s) or relative(s) heads of households 62 years of age or older raising a child who is not attending school and is not more than 18 years of age or is attending school and is not more than 19 years of age. The family must meet the age requirements to be eligible for an intergenerational dwelling unit. Project Rental Assistance (PRAC) funds are available for eligible section 202 projects that are funded under this program to cover the difference between the HUD-approved operating costs of the project and the tenant's contribution toward rent (30 percent of their adjusted monthly income). The Demonstration Program application submission requirements are necessary to assist HUD in determining an applicant's eligibility and ability to develop and operate housing for intergenerational families.

New collections would include the need for supportive housing for the target population in the area to be served, site control and suitability of the site, and adequacy of the provision of supportive services and of the proposed project; and general application requirements, certifications and resolutions.

OMB Control Number: 2502-Pending.

Agency Form Numbers: SF-424, SF-424-Supplemental, SF LLL, HUD-2880, HUD-2991, HUD-92041, HUD-92042, HUD-96010-I, HUD 27300, Form HUD-96011, HUD-2990, and HUD-2994-A.

Members of Affected Public: Not-for-profit institutions.

Estimation of the total numbers of hours needed to prepare the information collection including number of respondents, frequency of responses, and hours of response: An estimation of the total number of hours needed to prepare the information collection is 33, number of respondents is 11 frequency response is 1 per annum, and the total hours per respondent is 363.

Authority: The Paperwork Reduction Act of 1995, 44 U.S.C. Chapter 35, as amended.

Dated: January 24, 2008.
Lillian L. Deitzer,
Departmental Paperwork Reduction Act Officer, Office of the Chief Information Officer.

[FR Doc. E8-1579 Filed 1-29-08; 8:45 am]

BILLING CODE 4210-67-P